ENVIRONMENTAL PROTECTION AGENCY

40 CFR Part 63

[EPA-HQ-OAR-2010-1042; FRL-9609-1]

RIN 2060-AQ90

National Emission Standards for Hazardous Air Pollutants for Wool Fiberglass Manufacturing

AGENCY: Environmental Protection Agency (EPA).

ACTION: Proposed rule; notice of public hearings and extension of public comment period.

SUMMARY: The EPA published in the Federal Register on November 25, 2011, the proposed rules, “National Emission Standards for Hazardous Air Pollutants: Mineral Wool Production and Wool Fiberglass Manufacturing.” The EPA was asked to hold a public hearing only on the wool fiberglass rule. Therefore, EPA is making two announcements: first, a public hearing for the proposed Wool Fiberglass Manufacturing rule will be held on January 4, 2012 in Kansas City Kansas, and second, the comment period for the Wool Fiberglass Manufacturing proposed rules will be extended until February 3, 2012.

DATES: The public hearing will be held on January 4, 2012. Comments must be received by February 3, 2012.

ADDRESSES: The public hearing to be held on January 4, 2012, will be held at the Hilton Garden Inn, 520 Minnesota Avenue, Kansas City, Kansas 66101; telephone: (913) 342-7900.

The public hearing will convene at 2 p.m. and will continue until 8 p.m. A dinner break is scheduled from 5 p.m. until 6:30 p.m. The EPA will make every effort to accommodate all speakers that arrive and register before 8 p.m. The EPA's Web site for the rulemaking, which includes the proposal and information about the hearings, can be found at: http://www.epa.gov/ttn/atw/rrisk/rtrpg.html.

FOR FURTHER INFORMATION CONTACT: If you would like to present oral testimony at the public hearing, please contact Ms. Pamela Garrett, U.S. Environmental Protection Agency, Office of Air Quality Planning and Standards, Sector Policies and Programs Division (D243-01), Research Triangle Park, North Carolina 27711; telephone: (919) 541-7966; fax number: (919) 541-5450; email address: garrett.pamela@epa.gov (preferred method for registering). The last day to register to present oral testimony in advance will be Friday, December 30, 2011. If using email, please provide the following information: the time you wish to speak (afternoon or evening), name, affiliation, address, email address and telephone and fax numbers. Time slot preferences will be given in the order requests are received. Requests to speak will be taken the day of each of the hearings at the hearing registration desk, although preferences on speaking times may not be able to be fulfilled. If you will require the service of a translator, please let us know at the time of registration.

Questions concerning the November 25, 2011, proposed rule should be addressed to Susan Fairchild, Office of Air Quality Planning and Standards, Sector Policies and Programs Division (D 243-04), Environmental Protection Agency, Research Triangle Park, North Carolina 27711; telephone number: (919) 541-5167; facsimile number: (919) 541-3207; email address: Fairchild.susan@epa.gov.

Public hearing: The proposal for which the EPA is holding the public hearing was published in the Federal Register on November 25, 2011, and is available at: http://www.epa.gov/ttn/atw/rrisk/rtrpg.html and also in the docket identified below. The public hearing will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Garrett if they will need specific equipment or if there are other special needs related to providing comments at the public hearing. The EPA will provide equipment for commenters to make computerized slide presentations if we receive special requests in advance. Oral testimony will be limited to 5 minutes for each commenter. The EPA encourages commenters to bring a copy of their oral testimony along with any other information supporting their statements in electronic (via email or CD) or in hard copy form. A recorder will be present during the public hearing to record oral statements. All information submitted to the EPA during the public hearing and a transcribed copy of the oral statements will be entered into the docket.

The public hearing schedule, including lists of speakers, will be posted on the EPA's Web site at http://www.epa.gov/ttn/atw/rrisk/rtrpg.html. Verbatim transcripts of the hearing and written statements will be included in the docket for the rulemaking. The EPA will make every effort to follow the schedule as closely as possible on the day of the hearing; however, please plan for the hearing to run either ahead of schedule or behind schedule.

How can I get copies of this document and other related information?

The EPA has established a docket for the proposed rule, “National Emission Standards for Hazardous Air Pollutants: Wool Fiberglass Manufacturing Risk and Technology Review,” under No. EPA-HQ-OAR-2010-1042, available at www.regulations.gov.

List of Subjects in 40 CFR Part 63

Environmental protection, Administrative practice and procedure, Air pollution control, Hazardous substances, Intergovernmental relations, Reporting and recordkeeping requirements.

Dated: December 15, 2011.
Mary E. Henigin,
Acting Director, Office of Air Quality Planning and Standards.

[FR Doc. 2011-32630 Filed 12-19-11; 8:45 a.m.]

BILLING CODE 6560-50-P